SOCIAL SECURITY ADMINISTRATION

The Ticket To Work and Work Incentives Advisory Panel Design and Evaluation Committee Meeting

AGENCY: Social Security Administration (SSA).

ACTION: Notice of meeting.

DATES: July 27, 2001, 8:30 a.m. to 5 p.m.

ADDRESSES: Holiday Inn-Capitol, 550 C Street, SW., Washington, DC 20024 Phone: (202) 479-4000, (202) 479-4353 Fax. The hotel is located near the Federal Center, SW and the L'Enfant Metro Stations. Call-in number: 1-888-790-1713. Pass code 12211.

SUPPLEMENTARY INFORMATION: Type of meeting: This is a meeting of the Design and Evaluation Committee of the Ticket to Work and Work Incentives Advisory Panel (the Panel). The meeting is a research roundtable meeting and is open to the public. The public is invited to participate by coming to the address listed above or calling in to the number listed. Public comment will be taken. The public is also invited to submit comments in writing on the implementation of the Ticket to Work and Work Incentives Improvement Act (TWWIIA) of 1999 at any time.

Purpose: In accordance with section 10(a)(2) of the Federal Advisory Committee Act, the Social Security Administration announces that the Design and Evaluation committee of the Ticket to Work and Work Incentives Advisory Panel (the Panel) will host an Expert Roundtable on the Ticket Program Evaluation for People with Significant Disabilities and the Adequacy of Incentives Study. Interested parties are invited to attend the meeting. The Panel will use the meeting time to receive public testimony, hear presentations from invited experts, receive briefings on the implementation of TWWIIA and conduct discussions. The roundtable discussion will focus on questions and issues presented in this announcement.

Agenda: Interested parties may attend the meeting or call in to listen between the hours of 8:30 a.m. to 5 p.m. Eastern Time. Public testimony will be heard on Friday, July 27, 2001 from 11 a.m. to 12 noon. Individuals interested in providing testimony in person should contact the Panel staff as outlined below to schedule time slots. Members of the public must schedule a timeslot in order to comment. Since the time slot is limited, persons interested in providing testimony at the meeting should contact the Panel staff by e-mailing Theda Zawaiza at Theda.W.Zawaiza@ssa.gov or calling (202) 358-6421.

Each presenter will be called on by the Chair in the order in which they are scheduled to testify and is limited to a maximum five-minute verbal presentation. Full written testimony on TWWIIA Implementation, no longer than 5 pages, may be submitted in person or by mail, fax or e-mail on an on-going basis to the Panel for consideration.

In the event that the public comments do not take up the scheduled time period for public comment, the Panel will use that time to deliberate and conduct other Panel business.

The full agenda for the meeting will be posted on the Internet at http://www.ssa.gov/work/panel/ one week before the meeting or can be received in advance electronically or by fax upon request.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory.

• Panel Staff, 400 Virginia Avenue, SW., Suite 700, Washington, DC 20024.

• Telephone contact with Kristen Breland by telephone at (202) 358-6423.

• Fax at (202) 358-6440.

• E-mail to TWWIIAPanel@ssa.gov.

Dated: July 16, 2001.
Deborah M. Morrison,
Designated Federal Officer.

Expert Roundtable on the Ticket Program Evaluation for People With Significant Disabilities and the Adequacy of Incentives Study

Date: July 27, 2001, 8:30 a.m. to 5 p.m.

Roundtable Questions and Issues

• Discussion of SSA's overall evaluation and Adequacy of Incentives Study design and methodology. SSA question: What are the outcomes of interest? What needs to be accomplished by the study, included in the Report to Congress, and implemented prior to the end of the three-year period? What does Congress need to know and how should the information be provided?

• Discussion of SSA's question: “What are objective means of identifying, through SSA administrative data, the target populations as defined in Section 101(h)(5)(C) of P. L. 106-170, the Ticket to Work and Work Incentives Improvement Act? What other sources are available to identify the target population as defined in the statute?

• Who are the experts and what information resources should be considered regarding current and past projects and successful efforts to support individuals with significant disabilities to achieve integrated jobs in the community, at or above minimum wage? (i.e. What have we learned from the PASS plans, Choice projects, successful supported employment and other employment?)

• What other means of identifying the information needed in order for individuals in the target populations to achieve employment should be considered, i.e. review of the literature and best practice, targeted studies, demonstration projects? What should the timing and design be, and what expertise is necessary to conduct reviews, projects, studies, etc.?”

• How can SSA study/review/demonstrate how individualized milestones ¹ could be used effectively to achieve employment for these individuals?

¹ SSA will address, in the Adequacy of Incentives Report due to Congress in December 2002, the efficacy of individualized milestones. The Work Incentives Advisory Panel recommends that SSA should also consider the immediate implementation of an individualized milestone system. The system would provide individualized milestones for individuals with a need for on-going support services, individuals who need high-cost accommodations, individuals who earn a sub-minimum wage, and individuals who work and receive partial cash benefits along the lines of systems already in use in Massachusetts, Oklahoma and other states. These systems use the individualized planning process to determine if and when a different set of milestones is necessary, and establish a plan for payments and accountability for payments.

• What is the best way to address the SSA question: What about the array of services, e.g. cost, is of interest? How can SSA determine what services are most effective in assisting individuals in the four categories obtain and retain successful employment? What do the services cost and how are they provided?

• What are the best ways to ensure that various and diverse populations are represented in the research study?

• How should consumers, family members, and/or their representatives be included in the study design planning process and study implementation?

• How should Employment Networks ² be consulted as part of the Adequacy of Incentives Study regarding the incentives needed to serve individuals in the four target populations defined in the statute?

² Each EN serving under the Ticket to Work program shall consist of an agency or instrumentality of a State (or political subdivision thereof) or a private entity that assumes responsibility for the coordination and delivery of services under the program to beneficiaries assigning tickets to it. An EN may consist of a one-stop delivery system established under subtitle B of title I of the Workforce Investment Act of 1998.

[FR Doc. 01-18282 Filed 7-20-01; 8:45 am]

BILLING CODE 4191-02-U